DEPARTMENT OF DEFENSE

Office of the Secretary

Membership of the Defense Information Systems Agency Senior Executive Service Performance Review Board

AGENCY: Defense Information Systems Agency, Department of Defense.

ACTION: Notice of Membership of the Defense Information Systems Agency Senior Executive Service Performance Review Board; correction.

SUMMARY: On October 24, 2007 (72 FR 60322) the Department of Defense published a notice announcing the appointment of members to the Defense Information Systems Agency (DISA) Performance Review Board. The listing published was incorrect. This notice announces the correct members.

DATES: Effective Date: October 24, 2007.

FOR FURTHER INFORMATION CONTACT: Ms. Patti Wai, SES Program Manager, Defense Information Systems Agency, P.O. Box 4502, Arlington, Virginia 22204-4502, (703) 607-4411.

SUPPLEMENTARY INFORMATION: In accordance with 5 U.S.C. 4214(c)(4), the following are the names and titles of DISA career executives appointed to serve as members of the DISA Performance Review Board. Appointees will serve one-year terms, effective upon publication of this notice.

RADM Elizabeth A. Hight, USN, Vice Director, DISA, Chairperson.

Ms. Diann L. McCoy, Component Acquisition Executive, DISA, Member.

Mr. John J. Garing, Director for Strategic Planning and Information/Chief Information Officer, DISA, Member.

Mr. John J. Penkoske, Jr., Director for Manpower, Personnel, and Security, DISA, Member.

Dated: November 5, 2007.
L.M. Bynum,
Alternate OSD Federal Register Liaison Officer, DoD.

[FR Doc. E7-22106 Filed 11-9-07; 8:45 am]

BILLING CODE 5001-06-P